DEPARTMENT OF ENERGY

Federal Energy Regulatory Commission

PacifiCorp—Bear River Projects; Soda Project No. 20-019, Caribou and Franklin Counties, Idaho Grace-Cove Project No. 2401-007, Oneida Project No. 472-017; Notice of Intention To Hold Public Meeting for Discussion of the Draft Environmental Impact Statement for the Bear River Hydroelectric Projects

November 8, 2002.

On October 23, 2002, the Commission staff mailed the Bear River Projects Draft Environmental Impact Statement (DEIS) to the Environmental Protection Agency, resource and land management agencies, and interested organizations and individuals.

The DEIS was noticed in the Federal Register on November 1, 2002 (61 FR 6243), and comments are due December 31, 2002. The DEIS evaluates the environmental consequences of the construction, operation, and maintenance of the Bear River Projects in Idaho. The DEIS also evaluates the environmental effects of implementing the comprehensive settlement that replaces the applicant's proposal and agency recommendations, as well as evaluates staff's recommendations, and the no-action alternative. The projects are partially located on United States lands administered by the Bureau of Land Management.

A public meeting, which will be recorded by an official stenographer, is scheduled on Thursday, December 12, 2002, starting at 7:00 pm at the Caribou County Senior Center, 60 S. Main Street, Soda Springs, Idaho.

At this meeting, resource agency personnel and other interested persons will have the opportunity to provide oral and written comments and recommendations regarding the DEIS for the Commission's public record.

For further information, please contact Susan O'Brien at (202) 502-8449, or susan.obrien@ferc.gov, Federal Energy Regulatory Commission, Office of Energy Projects, 888 First St. NE., Washington, DC 20426.

Magalie R. Salas,
Secretary.

[FR Doc. 02-29137 Filed 11-15-02; 8:45 am]

BILLING CODE 6717-01-P